POSTAL SERVICE

Sunshine Act Meeting; Board of Governors

DATES AND TIMES: Thursday, October 3, 2019, at 10:00 a.m.

PLACE: Washington, DC.

STATUS: Closed.

MATTERS TO BE CONSIDERED:

Thursday, October 3, 2019 at 9:00 a.m.

1. Strategic Items.

2. Financial Matters.

3. Compensation and Personnel Matters.

4. Administrative Items.

5. Executive Session—Discussion of prior agenda items and Board governance.

GENERAL COUNSEL CERTIFICATION: The General Counsel of the United States Postal Service has certified that the meeting may be closed under the Government in the Sunshine Act.

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2019-20915 Filed 9-23-19; 4:15 pm]

BILLING CODE 7710-12-P